SMALL BUSINESS ADMINISTRATION

[Disaster Declaration #21276; LOUISIANA Disaster Number LA-20011 Declaration of Economic Injury]

Administrative Declaration of an Economic Injury Disaster for the State of Louisiana

AGENCY: U.S. Small Business Administration.

ACTION: Notice.

SUMMARY: This is a notice of an Economic Injury Disaster Loan (EIDL) declaration for the State of Louisiana dated September 5, 2025.

Incident: Smitty's Supply Fire.

DATES: Issued on September 5, 2025.

Incident Period: August 22, 2025 through August 25, 2025.

Economic Injury (EIDL) Loan Application Deadline Date: June 6, 2026.

ADDRESSES: Visit the MySBA Loan Portal at https://lending.sba.gov to apply for a disaster assistance loan.

FOR FURTHER INFORMATION CONTACT: Jennifer Talarico, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Parish: Tangipahoa.

Contiguous Parishes/Counties:

Louisiana: Jefferson, Livingston, St. Charles, St. Helena, St. John The Baptist, St. Tammany, Washington.

Mississippi: Amite, Pike.

The Interest Rates are:

| Percent
Business and Small Agricultural Cooperatives without Credit Available Elsewhere | 4.000
Non-Profit Organizations without Credit Available Elsewhere | 3.625

The number assigned to this disaster for economic injury is 212760.

The States which received an EIDL Declaration are Louisiana, Mississippi.

(Catalog of Federal Domestic Assistance Number 59008)

(Authority: 13 CFR 1234.3(b).)

James Stallings,
Associate Administrator, Office of Disaster Recovery & Resilience.

[FR Doc. 2025-17496 Filed 9-10-25; 8:45 am]

BILLING CODE 8026-09-P